DEPARTMENT OF COMMERCE

Bureau of Economic Analysis

Renewal of the Bureau of Economic Analysis Advisory Committee Charter

AGENCY: Bureau of Economic Analysis (BEA), Department of Commerce.

ACTION: Notice of the renewal of the BEA Advisory Committee Charter.

SUMMARY: Please note that the Secretary of Commerce has renewed the Charter for the Bureau of Economic Analysis Advisory Committee on August 6, 2003. It has been determined that the Committee is necessary and in the public interest.

FOR FURTHER INFORMATION CONTACT: Suzette Kern, Designated Federal Official, Office of the Director, Bureau of Economic Analysis, 1441 L Street, NW., Washington, DC 20230; Telephone (202) 606-9616; Fax (202) 606-5310; E-mail suzette.kern@bea.gov.

SUPPLEMENTARY INFORMATION: The Committee was established September 2, 1999 to advise the Director of BEA on matters related to the development and improvement of BEA's national, industry, international, and regional economic accounts.

Dated: August 7, 2003.
Steven Landefeld,
Director, Bureau of Economic Analysis.

[FR Doc. 03-20647 Filed 8-12-03; 8:45 am]

BILLING CODE 3510-06-P